FEDERAL COMMUNICATIONS COMMISSION

47 CFR Part 73

[DA 01-1864; MM Docket No. 01-142; RM-10144]

Radio Broadcasting Services; Comfort, TX

AGENCY: Federal Communications Commission.

ACTION: Proposed rule; withdrawal.

SUMMARY: This document dismisses a petition for rule making filed by Charles Crawford requesting the allotment of Channel 291A at Comfort, Texas. See 66 FR 35925, July 10, 2001. Due to a lapse in Commission records which did not show that allotment of Channel 291A at Kerrville, Texas, at coordinates 30-01-54 and 99-09-01, Channel 291A cannot be allotted to Comfort, Texas, in compliance with the Commission's spacing requirements.

FOR FURTHER INFORMATION CONTACT: Kathleen Scheuerle, Mass Media Bureau, (202) 418-2180

SUPPLEMENTARY INFORMATION: This is a summary of the Commission's Order in MM Docket No. 01-142, adopted July 25, 2001, and released August 3, 2001. The full text of this Commission decision is available for inspection and copying during normal business hours in the Commission's Reference Center, 445 12th Street, SW., Washington, DC. The complete text of this decision may also be purchased from the Commission's copy contractors, International Transcription Services, Inc., 1231 20th Street, NW., Washington, DC 20036, (202) 857-3800, facsimile (202) 857-3805.

List of Subjects in 47 CFR Part 73

Radio Broadcasting.

Federal Communications Commission.
John A. Karousos,
Chief, Allocations Branch, Policy and Rules Division, Mass Media Bureau.

[FR Doc. 01-20291 Filed 8-13-01; 8:45 am]

BILLING CODE 6712-01-P